DEPARTMENT OF AGRICULTURE

Food and Nutrition Service

Agency Information Collection Activities: Proposed Collection; Comment Request—School Foodservice Indirect Cost Study

AGENCY: Food and Nutrition Service (FNS), United States Department of Agriculture (USDA).

ACTION: Notice and request for comments.

SUMMARY: In accordance with the Paperwork Reduction Act of 1995, this notice invites the general public and other public agencies to comment on this proposed information collection. This collection is a new information collection for the School Foodservice Indirect Cost Study.

DATES: Written comments on this notice must be received by December 6, 2011.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: John Endahl, Senior Program Analyst, Office of Research and Analysis, Food and Nutrition Service, USDA, 3101 Park Center Drive, Room 1004, Alexandria, VA 22302. Comments may also be submitted via fax to the attention of John Endahl at 703-305-2576 or via e-mail to john.endahl@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: To request more information on the proposed project or to obtain a copy of the data collection plans, contact John Endahl, Senior Program Analyst, Office of Research and Analysis, Food and Nutrition Service/USDA, 3101 Park Center Drive, Room 1004, Alexandria, VA 22302; Fax: 703-305-2576; E-mail: john.endahl@fns.usda.gov.

SUPPLEMENTARY INFORMATION: Title: School Foodservice Indirect Cost Study.

OMB Number: 0584-NEW.

Expiration Date of Approval: Not yet determined.

Type of Information Collection Request: New information collection.

Abstract: The Healthy Hunger Free Kids Act of 2010 (Pub. L. 111-296) requires USDA to conduct this study to assess the extent to which school food authorities (SFAs) participating in the National School Lunch and Breakfast Programs pay indirect costs. The objective of the School Foodservice Indirect Cost Study is to collect and analyze up-to-date data on school districts' policies and procedures for reporting and recovering indirect costs attributable to their foodservice operations.

The ultimate goal of this study is to provide USDA and Congress the necessary information to assess the extent to which school districts indentify, treat, and charge indirect costs attributable to their foodservice operations. Some focus will be placed on whether school districts treat indirect costs attributable to their food service operations the same way that they treat indirect costs attributable to other grant programs. The School Lunch and Breakfast Cost Studies conducted in the early 1990s and again in the mid 2000s provide some evidence that as school district budgets have become increasingly tight, school districts have been increasingly likely to assess and recover indirect costs attributable to their food service operations. While this is permissible under USDA regulations, the regulations also stipulate that school districts must treat foodservice indirect costs in the same manner as their other grant programs. Previous research suggests that this is often not the case. This study will help FNS understand the extent to which current regulations are being followed and if there is a need for additional regulations and/or legislation to ensure that school districts treat indirect costs in the same manner across all of their grant programs. Specifically, this study will address the following questions:

□ What is the role of the State departments of education in establishing or approving school districts' indirect cost rates?

□ Are the indirect costs charged or recovered by school districts from foodservice consistent with Federal and State allocation requirements?

□ What are the types and amounts of indirect costs charged and recovered by school districts from the foodservice account?

□ What are the types and amounts of indirect costs that school districts could, but do not, charge and recover from the foodservice account?

□ What is the impact of school districts charging and recovering indirect costs from the foodservice account on the ability of SFAs to operate on a break-even basis?

The activities to be undertaken subject to this notice include:

□ Conducting a multi-modal (e.g. paper, Web, and telephone) survey of approximately 1,897 SFA Directors who will complete the survey out of 2,373 recruited.

□ Conducting a multi-modal (e.g. paper, Web, and telephone) survey of approximately 1,897 School District Business Managers who will complete the survey out of 2,373 recruited.

□ Conducting a telephone survey of all 56 State Agency Child Nutrition Directors.

□ Conducting a telephone survey of all 56 State Agency Financial Officers.

Affected Public: State and Local Governments.

Type of Respondents: 2,373 SFA Directors, 2,373 School District Business Managers, 56 State Child Nutrition Directors, and 56 State Agency Financial Officers.

Estimated Total Number of Respondents: 4,858.

Frequency of Response: Once annually.

Estimated Annual Responses: 4,858.

Estimate of Time per Respondent and Annual Burden: Public reporting burden for this collection of information is estimated to average thirty (30) minutes per completed Self Administered Survey for the SFA Directors and sixty (60) minutes for the completed School District Business Managers. Reporting burden is estimated at thirty (30) minutes per completed telephone interview for the State Agency Child Nutrition Directors and sixty (60) minutes for the completed State Agency Financial Officer (this includes 30 minutes for data gathering and 30 minutes to respond to the interview). The initial sample in the School Foodservice Indirect Cost Study includes 2,373 SFA Directors, 2,373 School District Business Managers, 56 State Child Nutrition Program Directors, and 56 State Agency Financial Officers. We expect responses from 1,897 SFA Directors, 1,897 School District Business Managers, 56 State Child Nutrition Program Directors, and 56 State Agency Financial Officers. The annual reporting burden is estimated at 3,010 hours (see table below).

Data collection activity | Respondents | Estimated number of respondents | Frequency of response | Estimated total annual responses | Average burden hours per response | Total annual burden estimate (in hours)
Self-Administered/Web/Phone Survey | School Food Authority Directors:
| Completed | 1,897 | 1 | 1,897 | 0.50 | 949
| Attempted | 476 | 1 | 476 | 0.08 | 40
Self-Administered/Web/Phone Survey | School District Business Managers:
| Completed | 1897 | 1 | 1,897 | 1.00 | 1,897
| Attempted | 476 | 1 | 476 | 0.08 | 40
Telephone Survey | State Agency Child Nutrition Directors:
| Completed | 56 | 1 | 56 | 0.50 | 28
Telephone Survey | State Agency Financial Officers:
| Completed | 56 | 1 | 56 | 1.00 | 56
Total |  | 4,858 |  | 4,858 | 0.62 | 3,010

Dated: October 3, 2011.
Audrey Rowe,
Administrator, Food and Nutrition Service.

[FR Doc. 2011-26058 Filed 10-6-11; 8:45 am]

BILLING CODE 3410-30-P